DEPARTMENT OF THE INTERIOR

Fish and Wildlife Service

[FWS-R9-LE-2010-N099] [99011-1220-0000-9B]

Information Collection Sent to the Office of Management and Budget (OMB) for Approval; OMB Control Number 1018-0129; Captive Wildlife Safety Act

AGENCY: Fish and Wildlife Service, Interior.

ACTION: Notice; request for comments.

SUMMARY: We (Fish and Wildlife Service) have sent an Information Collection Request (ICR) to OMB for review and approval. We summarize the ICR below and describe the nature of the collection and the estimated burden and cost. This ICR is scheduled to expire on June 30, 2010. We may not conduct or sponsor and a person is not required to respond to a collection of information unless it displays a currently valid OMB control number. However, under OMB regulations, we may continue to conduct or sponsor this information collection while it is pending at OMB.

DATES: You must send comments on or before June 14, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0129.

Title: Captive Wildlife Safety Act, 50 CFR 14.250 - 14.255.

Service Form Number(s): None.

Type of Request: Extension of currently approved collection.

Affected Public: Accredited wildlife sanctuaries.

Respondent's Obligation: Required to obtain or retain a benefit.

Frequency of Collection: Ongoing.

Estimated Annual Number of Respondents: 750.

Estimated Total Annual Responses: 750.

Estimated Time Per Response: 1 hour

Estimated Total Annual Burden Hours: 750.

Abstract: The Captive Wildlife Safety Act (CWSA) amends the Lacey Act by making it illegal to import, export, buy, sell, transport, receive, or acquire, in interstate or foreign commerce, live lions, tigers, leopards, snow leopards, clouded leopards, cheetahs, jaguars, or cougars, or any hybrid combination of any of these species, unless certain exceptions are met. There are several exceptions to the prohibitions of the CWSA, including accredited wildlife sanctuaries.

There is no requirement for wildlife sanctuaries to submit applications to qualify for the accredited wildlife sanctuary exemption. Wildlife sanctuaries themselves will determine if they qualify. To qualify, they must meet all of the following criteria:

• Approval by the United States Internal Revenue Service (IRS) as a corporation that is exempt from taxation under section 501(a) of the Internal Revenue Code of 1986, which is described in sections 501(c)(3) and 170(b)(1)(A)(vi) of that code.

• Do not engage in commercial trade in the prohibited wildlife species including offspring, parts, and products.

• Do not propagate the prohibited wildlife species.

• Have no direct contact between the public and the prohibited wildlife species.

The basis for this information collection is the recordkeeping requirement that we place on accredited wildlife sanctuaries. We require accredited wildlife sanctuaries to maintain complete and accurate records of any possession, transportation, acquisition, disposition, importation, or exportation of the prohibited wildlife species as defined in the CWSA (50 CFR 14, subpart K). Records must be up to date and include: (1) the names and addresses of persons to or from whom any prohibited wildlife species has been acquired, imported, exported, purchased, sold, or otherwise transferred; and (2) the dates of these transactions. Accredited wildlife sanctuaries must:

• Maintain these records for 5 years.

• Make these records accessible to Service officials for inspection at reasonable hours.

• Copy these records for Service officials, if requested.

Comments: On January 21, 2010, we published in the Federal Register (75 FR 3483) a notice of our intent to request that OMB renew this ICR. In that notice, we solicited comments for 60 days, ending on March 22, 2010. We received 155 comments during the comment period, all of which supported this information collection. Of these comments, 153 were submitted as part of an electronic letterwriting campaign and two were individual responses.

Comments: The comments submitted as part of the letterwriting campaign suggested that sanctuaries should make appropriate records available to the Service and the public. Other comments suggested that: (1) appropriate records should be made available to the Service on an annual basis; (2) we establish an electronic recordkeeping system for wildlife sanctuaries that other Federal, State or, local agencies could access; and (3) wildlife sanctuaries be accredited by an independent organization.

Response: During development of the regulations to implement the CWSA, we considered options for some type of formal accreditation mechanism for wildlife sanctuaries, but concluded that it was not practical for a number of reasons. We believe that the requirement that wildlife sanctuaries provide records on an as-needed basis is adequate to substantiate whether or not a particular wildlife sanctuary qualifies as accredited under the CWSA. In addition, the Privacy Act and the Freedom of Information Act have certain requirements pertaining to the release of information that may prohibit us from making these records openly available to the public. Since the Service is responsible for determining if a wildlife sanctuary qualifies as accredited under the CWSA, giving this responsibility to an outside organization would not be appropriate.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: May 10, 2010
Hope Grey,
Information Collection Clearance Officer, Fish and Wildlife Service.

FR Doc. 2010-11573 Filed 5-13-10; 8:45 am

BILLING CODE 4310-55-S